DEPARTMENT OF ENERGY

Federal Energy Regulatory Commission

Combined Notice of Filings #1

Take notice that the Commission received the following electric corporate filings:

Docket Numbers: EC15-64-000.

Applicants: Energy Capital Partners II, LLC, Energy Capital Partners III, LLC on behalf its Public Utility Subsidiaries.

Description: Section 203 Application of Energy Capital Partners II, LLC, et. al. on behalf of its Public Utility Subsidiaries.

Filed Date: 1/27/15.

Accession Number: 20150127-5327.

Comments Due: 5 p.m. ET 2/17/15.

Docket Numbers: EC15-65-000.

Applicants: Longview Power.

Description: Section 203 Application of Longview Power, LLC.

Filed Date: 1/27/15.

Accession Number: 20150127-5329.

Comments Due: 5 p.m. ET 2/17/15.

Take notice that the Commission received the following electric rate filings:

Docket Numbers: ER15-493-001.

Applicants: Duke Energy Conesville, LLC.

Description: Tariff Amendment per 35.17(b): Response to Deficiency Letter to be effective 12/1/2014.

Filed Date: 1/26/15.

Accession Number: 20150126-5220.

Comments Due: 5 p.m. ET 2/17/15.

Docket Numbers: ER15-909-000.

Applicants: American Electric Power Service Corporation.

Description: Request for Waiver of American Electric Power Service Corporation.

Filed Date: 1/26/15.

Accession Number: 20150126-5396.

Comments Due: 5 p.m. ET 2/9/15.

Docket Numbers: ER15-917-000.

Applicants: AEP Texas North Company.

Description: Section 205(d) rate filing per 35.13(a)(2)(iii): TNC-Concho Valley EC-Golden Spread EC First Amd & Rest IA to be effective 12/31/2014.

Filed Date: 1/28/15.

Accession Number: 20150128-5057.

Comments Due: 5 p.m. ET 2/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2015.
Nathaniel J. Davis, Sr.,
Deputy Secretary.

[FR Doc. 2015-02627 Filed 2-9-15; 8:45 am]

BILLING CODE 6717-01-P